DEPARTMENT OF THE INTERIOR

Bureau of Land Management

[BLM_OR_FRN_MO4500172864]

Notice of Public Meeting for the Southeast Oregon Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM's) Southeast Oregon Resource Advisory Council (RAC) will meet as follows.

DATES: The Southeast Oregon RAC will meet Tuesday, Oct. 17, 2023, from 9 a.m. to 4:30 p.m. Pacific Time (PT) and Wednesday, Oct. 18, 2023, from 9 a.m. to 12 p.m. PT. Thirty-minute public comment periods will be offered at 3:45 p.m. PT on Tuesday, Oct. 17 and 10:45 a.m. PT on Wednesday, Oct. 18.

ADDRESSES: The meeting is open to the public and will be held at the BLM Lakeview Interagency Office, 1301 S. G St., Lakeview, OR 97639. A virtual option will also be offered. Instructions for participating virtually, the final agenda, and additional meeting details will be posted at least 10 days in advance of the meeting on the RAC web page: https://www.blm.gov/get-involved/resource-advisory-council/near-you/oregon-washington/southeast-oregon-rac. Previous meeting minutes, membership information, and upcoming agendas are also available at this website.

Public comments can be mailed to BLM Vale District, Attn: Shane DeForest, 100 Oregon St., Vale, OR 97918 or sent via email to sdefores@blm.gov. All comments received will be provided to the Southeast Oregon RAC members.

FOR FURTHER INFORMATION CONTACT: Larisa Bogardus, Public Affairs Officer, 3100 H St., Baker City, Ore. 97814; (541) 219-6863; lbogardus@blm.gov. Individuals in the United States who are deaf, blind, hard of hearing, or have a speech disability may dial 711 (TTY, TDD, or TeleBraille) to access telecommunications relay services. Individuals outside the United States should use the relay services offered within their countries to make international calls to the point-of-contact in the United States.

SUPPLEMENTARY INFORMATION: The Southeast Oregon RAC is chartered, and the 15 members are appointed by the Secretary of the Interior. Their diverse perspectives represent commodity, non-commodity, and local interests. The RAC serves in an advisory capacity to BLM and U.S. Forest Service officials concerning planning and management of public land and national forest resources located, in whole or part, within the boundaries of the BLM's Vale, Burns, and Lakeview Districts and the Fremont-Winema and Malheur National Forests. All meetings are open to the public in their entirety. Information to be distributed to the RAC is requested before the start of each meeting.

Agenda topics for Oct. 17 will include District updates, an update on the Lakeview Resource Management Plan Amendment, and presentations on a programmatic aquatic and riparian restoration environmental assessment, the Louse Canyon Geographic Management Area Environmental Impact Statement, and the Tri-State Fuels Environmental Impact Statement. Oct. 18 agenda topics will include a presentation on commercial and dispersed recreation, a wild horse and burro update, and a mining and minerals update.

Meeting Accessibility/Special Accommodations: For sign language interpreter services, assistive listening devices, or other reasonable accommodations, please contact Larisa Bogardus, Vale District BLM (see FOR FURTHER INFORMATION CONTACT) at least 7 business days before the meeting to ensure there is sufficient time to process the request. The Department of the Interior manages accommodation requests on a case-by-case basis.

Before including your address, phone number, email address, or other personal identifying information in your comments, please be aware that your entire comment—including your personal identifying information—may be made publicly available at any time. While you can ask us in your comment to withhold your personal identifying information from public review, we cannot guarantee we will be able to do so.

(Authority: 5 U.S.C. ch. 10)

Shane DeForest,
Acting Vale District Manager.

[FR Doc. 2023-19050 Filed 9-1-23; 8:45 am]

BILLING CODE 4331-24-P